DEPARTMENT OF VETERANS AFFAIRS

38 CFR Part 17

RIN 2900-AP57, AQ47, AQ63

Program for the Repayment of Educational Loans, Urgent Care, and Specialty Education Loan Repayment Program

AGENCY: Department of Veterans Affairs.

ACTION: Correcting amendment.

SUMMARY: This final rule will revise the Department of Veterans Affairs (VA) regulations that govern the Program for the Repayment of Educational Loans (PREL) and Specialty Education Loan Repayment Program (SELRP) by adding the Office of Management and Budget approval number for the associated collections of information. VA is also making technical corrections to its regulation that governs VA's urgent care benefit.

DATES: Section 17.644 of title 38, published at 81 FR 66815 on September 29, 2016, is effective March 2, 2023. This final rule is effective March 2, 2023.

FOR FURTHER INFORMATION CONTACT: Ethan Kalett, Office of Regulations, Appeals, and Policy, Veterans Health Administration, Department of Veterans Affairs, 810 Vermont Avenue NW, Washington, DC 20420, (202) 461-7633. (This is not a toll free number.)

SUPPLEMENTARY INFORMATION:

Revisions to §§ 17.528 and 17.643 of Title 38, Code of Federal Regulations (CFR)

In a final rule published in the Federal Register (FR) on September 29, 2016, VA added new regulations for the PREL, a program in which VA repays educational loans to individuals who pursued a program of study leading to a degree in psychiatric medicine and who are seeking employment in VA. See 81 FR 66815. In a separate final rule

published in the FR on July 29, 2020, VA also added to new regulations for the SELRP, a program which serves as an incentive for physicians starting or currently in residency programs in medical specialties, for which VA has determined that recruitment and retention of qualified personnel is difficult, to work at VA facilities that need more physicians within that medical specialty after the individual completes their residency program. See 85 FR 45532.

Both of those rulemakings contained provisions constituting collections of information subject to the Paperwork Reduction Act of 1995 (44 U.S.C. 3507). See 38 CFR 17.528 and 17.643. The Paperwork Reduction Act of 1995 requires that VA consider the impact of paperwork and other information collection burdens imposed on the public. Under 44 U.S.C. 3507(a), an agency may not collect or sponsor the collection of information, nor may it impose an information collection requirement unless it displays a currently valid Office of Management and Budget (OMB) control number. See also 5 CFR 1320.8(b)(3)(vi). As required by 44 U.S.C. 3507(d), VA submitted the information collections associated with §§ 17.528 and 17.643 to OMB for its review. After both final rules were published, these information collections were approved by OMB and assigned OMB control number 2900-0879. This document revises §§ 17.528 and 17.643 by adding the approved OMB control number at the end of each of those sections.

Revisions to 38 CFR 17.4600

In a document published in the FR on June 5, 2019, VA amended its medical regulations by granting eligible veterans access to urgent care from qualifying non-VA entities or providers without prior approval from VA. 84 FR 25998. Current paragraphs (c)(1)(i)(A) and (B) of § 17.4600 were incorrectly numbered as they should have been designated as paragraphs (c)(1)(i) and (ii), respectively. We are now revising § 17.4600 to correct the numbering of paragraph (c)(1) with no substantive changes to the regulation text.

List of Subjects in 38 CFR Part 17

Administrative practice and procedure, Claims, Dental health, Government contracts, Health care, Health facilities, Health professions, Health records, Reporting and recordkeeping requirements, Scholarships and fellowships, Travel and transportation expenses, Veterans.

Consuela Benjamin,
Regulations Development Coordinator, Office of Regulation Policy & Management, Office of General Counsel, Department of Veterans Affairs.

For the reasons set forth in the preamble, the Department of Veterans Affairs amends 38 CFR part 17 as follows:

PART 17—MEDICAL

1. The authority citation for part 17 continues to read in part as follows:

Authority: 38 U.S.C. 501, and as noted in specific sections.

* * * * *

2. Amend § 17.528 by revising the parenthetical information collection sentence at the end of the section to read as follows:

§ 17.528 Application.

* * * * *

(The Office of Management and Budget has approved the information collection requirement in this section under control number 2900-0879.)

3. Amend § 17.643 by adding a parenthetical information collection sentence at the end of the section to read as follows:

§ 17.643 Application for the PREL.

* * * * *

(The Office of Management and Budget has approved the information collection requirement in this section under control number 2900-0879.).

§ 17.4600 [Amended]

4. Amend § 17.4600 by redesignating paragraphs (c)(1)(i)(A) and (B) as paragraphs (c)(1)(i) and (ii).

[FR Doc. 2023-04144 Filed 3-1-23; 8:45 am]

BILLING CODE 8320-01-P